Title 3—

The President

Proclamation 10430 of August 25, 2022

Women's Equality Day, 2022

By the President of the United States of America

A Proclamation

On August 26, 1920, after decades of hard-fought advocacy, women won the right to vote, and our Nation moved one step closer to living out our sacred ideal that all people are created equal. On Women's Equality Day, we honor the movement for universal suffrage that led to the 19th Amendment, celebrate the progress of women over the years, and renew our commitment to advancing gender equity and protecting women's rights.

This commitment is more important than ever in the wake of the Supreme Court decision to overturn Roe v. Wade and eliminate a woman's constitutional right to choose. My Administration is doing everything in its power to protect access to the reproductive health care that generations of women and activists have fought for, including abortion. We will continue to defend reproductive rights, which are integral to gender equality and the fundamental freedoms Americans hold dear. We will also continue to support the Equal Rights Amendment, so that we may enshrine the principle of gender equality in our Constitution.

With the ratification of the 19th Amendment, millions of women across the country were finally able to make their voices heard in our elections. Yet many women of color who helped lead the universal suffrage movement were effectively denied those rights until the Voting Rights Act passed 45 years later. Today, the struggle to ensure that every American can cast their ballot continues. More Americans voted in 2020 than during any election in our history, but some States are restricting this fundamental right through provisions that overwhelmingly impact people of color, low-income communities, and people with disabilities. Women are less likely to have time to vote in-person with increased caregiving demands and a disproportionate share of low-wage, inflexible work. The right to vote and to have that vote counted is essential to the future of our democracy.

Women and girls have fought for social justice and freedom throughout our history, and my Administration is committed to building on their progress. All Americans should have the opportunity to fully participate in society—no one's rights should be denied because of their gender. As States across the country strip women of their ability to make decisions about their own bodies, families, and futures, my Administration remains dedicated to protecting access to critical reproductive health care, regardless of gender, race, zip code, or income. We will continue to defend the right of all people to live free from gender-based violence.

We are also committed to ensuring women are treated fairly in the workplace and have economic security. We will fight for pay equity, to end discrimination in the workplace, and to promote equitable access to good-paying jobs, particularly in sectors where women are underrepresented. We remain dedicated to lowering the costs of child care and passing policies to help women navigate caregiving and work responsibilities.

On Women's Equality Day, we celebrate the trailblazers who fought to deliver a better future for America's daughters. We recognize the work that remains to ensure that everyone can fully participate in our democracy and make fundamental choices about their health and bodies. We strive to uphold our Nation's promise of equality for all people.

NOW, THEREFORE, I, JOSEPH R. BIDEN JR., President of the United States of America, by virtue of the authority vested in me by the Constitution and the laws of the United States, do hereby proclaim August 26, 2022, as Women's Equality Day. I call upon the people of the United States to celebrate and continue to build on our country's progress towards gender equality, and to defend and strengthen the right to vote.

IN WITNESS WHEREOF, I have hereunto set my hand this twenty-fifth day of August, in the year of our Lord two thousand twenty-two, and of the Independence of the United States of America the two hundred and forty-seventh.

[FR Doc. 2022-18835

Filed 8-29-22; 8:45 am]

Billing code 3395-F2-P